EXECUTIVE OFFICE OF THE PRESIDENT

Office of National Drug Control Policy

Designation of Eleven Areas as High Intensity Drug Trafficking Areas

AGENCY: Office of National Drug Control Policy (ONDCP).

ACTION: Notice of HIDTA Designations.

SUMMARY: The Director of the Office of National Drug Control Policy designated 13 additional areas as High Intensity Drug Trafficking Areas (HIDTA) pursuant to 21 U.S.C. 1706(b)(1). The new areas are (1) Anderson County in Tennessee, Boyd County in Kentucky, and Fayette County in West Virginia as part of the Appalachia HIDTA; (2) Floyd County in Georgia as part of the Atlanta/Carolinas HIDTA; (3) Allen County in Indiana as part of the Indiana HIDTA (4) Gloucester County in New Jersey and Bucks County in Pennsylvania as part of the Liberty Mid-Atlantic HIDTA; (5) Oswego County in New York as part of the New York/New Jersey HIDTA; (6) Olmsted and St. Louis Counties in Minnesota as part of the North Central HIDTA (7) Josephine County in Oregon as part of the Oregon/Idaho HIDTA and (8) Worcester County in Maryland and Warren County in Virginia as part of the Washington/Baltimore HIDTA. The Director of ONDCP also removed six areas as HIDTAs pursuant to 21 U.S.C. 1706(c), effective September 10, 2019. The six areas removed from HIDTA designation are (1) Breathitt and McCreary Counties in Kentucky and Macon and Unicoi Counties in Tennessee as part of the Appalachia HIDTA; (2) Marion County in Missouri as part of the Midwest HIDTA; and (3) the Confederated Tribe of Warm Springs Reservation in Oregon as part of the Oregon-Idaho HIDTA. The Executive Boards of each of these HIDTAs requested removal of these areas from designation after assessing the threat and determining that these areas no longer met the statutory criteria necessary for designation as HIDTA counties. ONDCP evaluated and accepted the request.

FOR FURTHER INFORMATION CONTACT: Questions regarding this notice should be directed to Shannon Kelly, National HIDTA Program Director, Office of National Drug Control Policy, Executive Office of the President, Washington, DC 20503; (202) 395-5872.

Dated: September 6, 2019.
Michael J. Passante,
Acting General Counsel.

[FR Doc. 2019-19661 Filed 9-10-19; 8:45 am]

BILLING CODE 3280-F5-P